DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by March 6, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Institute for the Conservation of Tropical Environments, Stony Brook, NY, PRT-035632

The applicant requests re-issuance and amendment of a permit to import biological samples from various lemur species collected in the wild in Madagascar, for the purpose of enhancement of the survival of the species through scientific research. The species include eastern wooly lemur (Avahi laniger), greater dwarf lemur (Cheirogaleus major), aye-aye (Daubentonia madagascariensis), red-fronted brown lemur (Eulemur fulvus), red-bellied lemur (Eulemur rubriventer), golden bamboo lemur (Hapalemur aureus), lesser bamboo lemur (Hapalemur griseus), greater bamboo lemur (Hapalemur simus), small-toothed sportive lemur (Lepilemur mocrodon), rufous mouse lemur (Microcebus rufous), sifka (Propithecus diadema), and ruffed lemur (Varecia variegata). This notification covers activities to be conducted by the applicant over a five-year period.

Applicant: Brice P. Noonan, Brigham Young University, Provo, UT, PRT-114024

The applicant requests a permit to import biological samples from captive-born round island boa (Casarea dussumieri) from the Durrell Wildlife Conservation Trust, Channel Islands, Great Britain, for the purpose of scientific research. This notification covers activities to be conducted by the applicant over a five-year period.

Applicant: Erie Zoo, Erie, PA, PRT-116434

The applicant requests a permit to export one captive-born male Amur leopard (Panthera pardus orientalis) to Assiniboine Park Zoo, Manitoba, Canada, for the purpose of enhancement of the species through captive propagation.

Applicant: Vincent K. Ney, San Antonio, TX, PRT-117138

The applicant requests a permit to import the sport-hunted trophy of one male bontebok (Damaliscus pygargus pygargus) culled from a captive herd maintained under the management program of the Republic of South Africa, for the purpose of enhancement of the survival of the species.

Applicant: Carlton G. Savory, Columbus, GA, PRT-116847

The applicant requests a permit to import the sport-hunted trophy of one male bontebok (Damaliscus pygargus pygargus) culled from a captive herd maintained under the management program of the Republic of South Africa, for the purpose of enhancement of the survival of the species.

Applicant: Jonathan T. Hayes, Calabasas, CA, PRT-117929

The applicant requests a permit to import the sport-hunted trophy of one male bontebok (Damaliscus pygargus pygargus) culled from a captive herd maintained under the management program of the Republic of South Africa, for the purpose of enhancement of the survival of the species.

Applicant: Douglas E. Wall, Lumberton, TX, PRT-117647

The applicant requests a permit to import the sport-hunted trophy of one male bontebok (Damaliscus pygargus pygargus) culled from a captive herd maintained under the management program of the Republic of South Africa, for the purpose of enhancement of the survival of the species.

Marine Mammals

The public is invited to comment on the following application for a permit to conduct certain activities with marine mammals. The application was submitted to satisfy requirements of the Marine Mammal Protection Act of 1972, as amended (16 U.S.C. 1361 et seq.,) and the regulations governing marine mammals (50 CFR part 18). Written data, comments, or requests for copies of the complete application or requests for a public hearing on this application should be submitted to the Director (address above). Anyone requesting a hearing should give specific reasons why a hearing would be appropriate. The holding of such a hearing is at the discretion of the Director.

Applicant: Fred R. Clark, Jr., Belle Vernon, PA, PRT-117082

The applicant requests a permit to import a polar bear (Ursus maritimus) sport hunted from the Western Hudson Bay polar bear population in Canada for personal, noncommercial use.

Dated: January 20, 2006.
Michael S. Moore,
Senior Permit Biologist, Branch of Permits, Division of Management Authority.

[FR Doc. E6-1430 Filed 2-2-06; 8:45 am]

BILLING CODE 4310-55-P